DEPARTMENT OF TRANSPORTATION

Federal Aviation Administration

14 CFR Part 121

[Docket No. 27065, 25148 and 26620; Amendment No. 121-273]

Antidrug and Alcohol Misuse Prevention Programs for Personnel Engaged in Specified Aviation Activities

AGENCY: Federal Aviation Administration (FAA), DOT.

ACTION: Final rule; technical amendment.

SUMMARY: This action corrects FAA office addresses listed in the Code of Federal Regulations regarding Drug Testing Programs and Alcohol Misuse Prevention Programs. The action is necessary so that required notifications and reports are received by the FAA in a timely and efficient manner. The intended effect of this action is to ensure that the regulated public has correct information regarding FAA office addresses.

EFFECTIVE DATE: April 10, 2000.

FOR FURTHER INFORMATION CONTACT: Ralph Timmons, Acting Manager, Program Analysis Branch, AAM-810, Drug Abatement Division, Office of Aviation Medicine, Federal Aviation Administration, Washington, DC 20591, telephone (202) 267-8442.

SUPPLEMENTARY INFORMATION:

Background

On February 15, 1994, the FAA published a final rule, Alcohol Misuse Prevention Program (59 FR 7380). On August 19, 1994, the FAA published a final rule, Antidrug Program for Personnel Engaged in Specified Aviation Activities (59 FR 42922). These final rules specified the requirements for drug and alcohol testing of air carrier employees. Since the publication of the final rules, the FAA has identified several FAA office addresses specified in the final rules that have changed. This technical amendment updates office addresses specified in 14 CFR Part 121, Appendices I and J. The changes will facilitate notification, reporting, and submission requirements.

Because this action is merely a technical amendment reflecting the change to office addresses, the FAA finds that notice and public procedure under 5 U.S.C. 553(b) are unnecessary. For the same reason, the FAA finds that good cause exists under 5 U.S.C. 5553(d) for making this amendment effective upon publication.

Availability of Final Rule

An electronic copy of this document may be downloaded using a modem and suitable communications software from the FAA regulations section of the Fedworld electronic bulletin board service (telephone: (703) 321-3339), or the Government Printing Office's (GPO) electronic bulletin board service (telephone: (202) 512-1661).

Internet users may reach the FAA's web page at http://www.faa.gov/avr/arm/nprm/nprm.thm or the Government Printing Office's webpage at http://www.access.gpo.gov/nara for access to recently published rulemaking documents.

Any person may obtain a copy of this rule by submitting a request to the Federal Aviation Administration, Office of Rulemaking, ARM-1, 800 Independence Avenue, SW, Washington, DC 20591, or by calling (202) 267-9680. Communications must identify the amendment number or docket number of this rule.

Small Entity Inquiries

If you are a small entity and have a question, contact your local FAA official. If you do not know how to contact your local FAA official, you may contact Charlene Brown, Program Analysis Staff, Office of Rulemaking, ARM-27, Federal Aviation Administration, 800 Independence Avenue, SW, Washington, DC 20591, 1-888-551-1594. Internet users can find additional information on SBREFA in the “Quick Jump” section of the FAA's web page at http://www.faa.gov and may send electronic inquiries to the following Internet address: 9-AWA-SBREFA@faa.gov.

Agency Findings

This is a routine matter that will affect only changes to office addresses for notification, reporting, and submission purposes. The regulations adopted herein will not have substantial direct effects on the States, on the relationship between the national government and the States, or on the distribution of power and responsibilities among the various levels of government. Therefore, in accordance with Executive Order 12612, it is determined that this final rule does not have sufficient federalism implications to warrant the preparation of a Federalism Assessment.

The FAA has determined that this action does not warrant preparation of a regulatory evaluation since the anticipated impact is minimal. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

Paperwork Reduction Act

Information collection requirements in the amendment to Part 121, Appendix I, Sections VI, VII, and IX and Appendix J, Sections V and VII have previously been approved by the Office of Management and Budget (OMB) under the provisions of the Paperwork Reduction Act of 1995 (44 U.S.C. section 3507(d)), and have been assigned OMB Control Numbers 2120-0535 and 2120-0571, respectively.

An agency may not conduct or sponsor and a person is not required to respond to a collection of information unless it displays a currently valid Office of Management and Budget (OMB) control number.

List of Subjects in 14 CFR Part 121

Air carriers, Aircraft, Airmen, Alcohol abuse, Aviation safety, Drug abuse, Drug testing, Reporting and recordkeeping requirements, Safety, Transportation.

The Amendment

In consideration of the foregoing, the Federal Aviation Administration amends 14 CFR part 121, as follows:

PART 121—OPERATING REQUIREMENTS: DOMESTIC, FLAG, AND SUPPLEMENTAL OPERATIONS

1. The authority citation for part 121 continues to read as follows:

Authority: 49 U.S.C. 106(g), 40113, 40119, 44101, 44701-44702, 44705, 44709-44711, 44713, 44716-44717, 44722, 44901, 44903-44904, 44912, 46105.

2. In Appendix I to part 121:

A. In section VI.E., paragraph 1 is revised.

B. In section VII.B., paragraph 4 is revised.

C. In section IX.A., paragraph 1 is revised.

The revisions read as follows:

Appendix I to Part 121—Drug Testing Program

* * * * *

VI. * * *

E. * * * 1. Each employer shall notify the FAA within 5 working days of any employee who holds a certificate issued under part 61, part 63, or part 65 of this chapter who has refused to submit to a drug test required under this appendix. Notification should be sent to: Federal Aviation Administration, Office of Aviation Medicine, Drug Abatement Division (AAM-800), 800 Independence Avenue, SW., Washington, DC 20591.

* * * * *

VII. * * *

B. * * *

4. All reports required under this section shall be forwarded to the Federal Air Surgeon, Office of Aviation Medicine, Federal Aviation Administration, Attn: Drug Abatement Division (AAM-800), 800 Independence Avenue, SW., Washington, DC 20591.

* * * * *

IX. * * * A. * * * 1. Each employer shall submit an antidrug program plan to the Federal Aviation Administration, Office of Aviation Medicine, Drug Abatement Division (AAM-800), 800 Independence Avenue, SW., Washington, DC 20591.

* * * * *

3. In appendix J to part 121:

A. In section V.C., paragraph 3 is revised.

B. In section V.D., paragraph 1 is revised.

C. In section VII.A., paragraph 1 introductory text is revised.

The revision read as follows:

Appendix J to Part 121—Alcohol Misuse Prevention Program

* * * * *

V. * * *

C. * * *

3. All documents shall be sent to the Federal Air Surgeon, Office of Aviation Medicine, Federal Aviation Administration, Attn: Drug Abatement Division (AAM-800), 800 Independence Avenue, SW., Washington, DC 20591.

* * * * *

D. * * *

1. Except as provided in subparagraph 2 of this paragraph D, each employer shall notify the FAA within 5 working days of any covered employee who holds a certificate issued under 14 CFR part 61, part 63, or part 65 who has refused to submit to an alcohol test required under this appendix. Notifications should be sent to: Federal Aviation Administration, Office of Aviation Medicine, Drug Abatement Division (AAM-800), 800 Independence Avenue, SW., Washington, DC 20591.

* * * * *

VII. * * *

A. * * *

1. Each employer shall submit an alcohol misuse prevention program (AMPP) certification statement as prescribed in paragraph B of section VII of this appendix, in duplicate, to the Federal Aviation Administration, Office of Aviation Medicine, Drug Abatement Division (AAM-800), 800 Independence Avenue, SW., Washington, DC 20591, in accordance with the schedule below.

* * * * *

Issued in Washington, DC, on March 31, 2000.
Donald P. Byrne,
Assistant Chief Counsel, Regulations Division.

[FR Doc. 00-8362 Filed 4-7-00; 8:45 am]

BILLING CODE 4910-13-M